ENVIRONMENTAL PROTECTION AGENCY

40 CFR Part 52

[EPA-R03-OAR-2008-0603; FRL-9953-52-Region 3]

Approval and Promulgation of Air Quality Implementation Plans; Pennsylvania; Philadelphia County Reasonably Available Control Technology Under the 1997 8-Hour Ozone National Ambient Air Quality Standards

AGENCY: Environmental Protection Agency (EPA).

ACTION: Final rule.

SUMMARY: The Environmental Protection Agency (EPA) is approving state implementation plan (SIP) revisions submitted by the Commonwealth of Pennsylvania (Pennsylvania). The revisions pertain to a demonstration that Philadelphia County (Philadelphia) meets the requirements for reasonably available control technology (RACT) of the Clean Air Act (CAA) for nitrogen oxides (NOX) and volatile organic compounds (VOC) as ozone precursors for the 1997 8-hour ozone national ambient air quality standards (NAAQS). In this rulemaking action, EPA is approving three separate SIP revisions addressing RACT under the 1997 8-hour ozone NAAQS for Philadelphia; approving portions of two previously submitted RACT SIP revisions, which EPA had found deficient and conditionally approved; and converting the prior conditional approval of the Philadelphia RACT demonstration for the 1997 8-hour ozone NAAQS to full approval. EPA is approving these revisions to the Pennsylvania SIP addressing 1997 8-hour ozone RACT for Philadelphia in accordance with the requirements of the CAA.

DATES: This final rule is effective on November 7, 2016.

ADDRESSES: EPA has established a docket for this action under Docket ID Number EPA-R03-OAR-2008-0603. All documents in the docket are listed on the http://www.regulations.gov Web site. Although listed in the index, some information is not publicly available, e.g., confidential business information (CBI) or other information whose disclosure is restricted by statute. Certain other material, such as copyrighted material, is not placed on the Internet and will be publicly available only in hard copy form. Publicly available docket materials are available through http://www.regulations.gov or please contact the person identified in the FOR FURTHER INFORMATION CONTACT section for additional availability information.

FOR FURTHER INFORMATION CONTACT: Emlyn Vélez-Rosa, (215) 814-2038, or by email at velez-rosa.emlyn@epa.gov.

SUPPLEMENTARY INFORMATION:

I. Background

On June 15, 2016 (81 FR 38992), EPA published a notice of proposed rulemaking (NPR) for the Commonwealth of Pennsylvania. In the NPR, EPA proposed approval of five revisions to the Pennsylvania SIP to satisfy the RACT requirements for the 1997 8-hour ozone NAAQS for Philadelphia. The formal SIP revisions were submitted by the Pennsylvania Department of Environmental Protection (PADEP), on behalf of Philadelphia Air Management Services (AMS), on September 29, 2006, June 22, 2010, June 27, 2014, February 18, 2015, and April 26, 2016.

Pursuant to section 110(k)(4) of the CAA, on December 13, 2013 (78 FR 75902), EPA conditionally approved the Philadelphia 1997 8-hour ozone RACT demonstration, as provided in the 2006 and 2010 SIP revisions, with the condition that PADEP, on behalf of AMS, submitted additional SIP revisions addressing the source-specific RACT requirements for major sources of NOX and/or VOC in Philadelphia under the 1997 8-hour ozone NAAQS. EPA had identified two deficiencies in the 1997 8-hour ozone Philadelphia RACT demonstration, as provided in the 2006 SIP revision and the 2010 SIP revision, which precluded EPA's approval. These deficiencies relied on Pennsylvania's NOX SIP Call SIP provisions to address RACT for electric generating units (EGUs),1 2 which cannot meet RACT based on a 2009 decision from the United States Court of Appeals for the District of Columbia Circuit (D.C. Circuit); ³ and not sufficiently addressing source-specific RACT requirements for certain major sources of NOX and VOC under the Pennsylvania SIP approved regulation in 25 Pa Code sections 129.91-92. Altogether, the RACT SIP revisions submitted to EPA on June 27, 2014, February 18, 2015, and April 26, 2016 are intended to fulfill the conditions in EPA's December 13, 2013 conditional approval. This rulemaking action addresses all five SIP revisions concerning Philadelphia RACT requirements under the 1997 8-hour ozone NAAQS.⁴

¹ In October 1998, EPA finalized the “Finding of Significant Contribution and Rulemaking for Certain States in the Ozone Transport Assessment Group Region for Purposes of Reducing Regional Transport of Ozone”—commonly called the NOX SIP Call. See 63 FR 57356 (October 27, 1998).

² The Philadelphia 2006 RACT SIP revision certified the following NOX SIP Call related provisions, as previously approved by EPA into the Pennsylvania SIP: 25 Pa Code sections 145.1-145.100 (66 FR 43795, August 21, 2001), 25 Pa Code sections 145.111-145.113 (71 FR 40048, July, 14, 2006), and 25 Pa Code sections 145.141-144 (71 FR 40048, July, 14, 2006.

³ See NRDC v. EPA, 571 F.3d 1245 (D.C. Cir. 2009).

⁴ The five SIP submittals include the submissions on September 29, 2006, June 22, 2010, June 27, 2014, February 18, 2015, and April 26, 2016.

II. Summary of SIP Revisions

On September 29, 2006, PADEP submitted, on behalf of AMS, a SIP revision purporting to address the RACT requirements for Philadelphia under the 1997 8-hour ozone NAAQS. The 2006 SIP revision consisted of a RACT demonstration for Philadelphia, including a certification that previously adopted RACT regulations approved by EPA in Pennsylvania's SIP under the 1-hour ozone NAAQS continue to represent RACT for the 1997 8-hour ozone NAAQS implementation purposes; and a negative declaration that certain VOC source categories that would be covered by Control Technique Guideline (CTG) documents ⁵ do not exist in Philadelphia. The 2006 SIP revision also included federally enforceable permits that represented RACT control for four major VOC sources, but these particular requirements were later addressed by the 2010 SIP revision, thus superseding this portion of the 2006 SIP revision.⁶

⁵ Section 182(b)(2) of the CAA requires states with moderate, or worse, ozone nonattainment areas to implement RACT controls on each VOC stationary source category covered by a CTG document issued by EPA.

⁶ EPA determined that the provisions in the 2006 and 2010 SIP revisions were related in addressing Philadelphia's 1997 8-hour ozone NAAQS RACT obligation and were not separable for approval purposes as each SIP submittal contained provisions addressing RACT obligations.

Another SIP revision addressing RACT requirements for certain VOC source categories covered by CTGs in Philadelphia was submitted by PADEP, on behalf of AMS, on June 22, 2010. The 2010 SIP revision consisted of two new CTG regulations, Air Management Regulation (AMR) V section XV (“Control of Volatile Organic Compounds (VOC) from Marine Vessel Coating Operations”) and AMR V section XVI (“Synthetic Organic Manufacturing Industry (SOCMI) Air Oxidation, Distillation, and Reactor Processes”), and related amendments to AMR V Section I (“Definitions”), as adopted by AMS on April 26, 2010, effective upon adoption. The 2010 SIP revision also included a negative declaration for the CTG source category of natural gas and gasoline processing plants.

On June 27, 2014, February 18, 2015, and April 26, 2016, PADEP submitted to EPA, on behalf of AMS, three separate SIP revisions pertaining to the Philadelphia 1997 8-hour ozone RACT demonstration to fulfill the conditions in EPA's December 13, 2013 conditional approval. The three latest RACT SIP revisions include a RACT evaluation for each major source of NOX and/or VOC in Philadelphia.

AMS evaluated a total of 25 major NOX and/or VOC sources in Philadelphia for 1997 8-hour ozone RACT, from which 16 major sources were subject to Pennsylvania's source-specific RACT requirements in 25 Pa Code 129.91-92. The new or additional controls or the revised existing controls resulting from the source-specific RACT determinations were specified as requirements in new or revised federally enforceable permits (RACT permits) issued by AMS for each source. These RACT permits are included as part of the Philadelphia RACT SIP revisions for EPA's approval in the Pennsylvania SIP under 40 CFR 52.2020(d)(1), and are specified in Table 1.

Table 1—New or Revised Source-Specific RACT Determinations for Major NOX and/or VOC Sources in Philadelphia Under the 1997 8-Hour Ozone NAAQS
Source | Major source pollutant | New or revised RACT permit (effective date)
Exelon Generating Company—Richmond Station | NOX | PA-51-4903 (02/09/16).
Honeywell International—Frankford Plant [formerly, Sunoco Chemical—Frankford Plant] | NOX and VOC | PA-51-1151 (02/09/16).
Kinder Morgan Liquids Terminals, LLC [formerly, GATX Terminals Corp.] | VOC | PA-51-5003 (02/09/16).
Naval Surface Warfare Center, Carderock Division, Ship Systems Engineering Station (NSWCCD-SSES) | NOX | PA-51-9724 (02/09/16).
Paperworks Industries, Inc. [formerly, Jefferson Smurfit, Corp./Container Corp. of America] | NOX | PA-51-1566 (01/09/15).
Philadelphia Energy Solutions—Refining and Marketing, LLC [formerly, Sunoco Inc. (R&M)—Philadelphia] | NOX and VOC | PA-51-01501 and PA-51-01517 (02/09/16).
Philadelphia Gas Works—Richmond Plant | NOX | PA-51-4922 (01/09/15).
Philadelphia Prison System | NOX | PA-51-9519 (02/09/16).
Plain Products Terminals, LLC [formerly, Maritank Philadelphia, Inc. and Exxon Company, USA] | VOC | PA-51-05013 (02/09/16).
Temple University—Health Sciences Campus | NOX | PA-51-8906 (01/09/15).
Temple University—Main Campus | NOX | PA-51-8905 (01/09/15).
Veolia Energy Philadelphia—Edison Station [formerly TRIGEN—Edison Station] | NOX | PA-51-4902 (01/09/15).
Veolia Energy Philadelphia—Schuylkill Station [TRIGEN—Schuylkill Station]/Grays Ferry Cogeneration Partnership—Schuylkill Station/Veolia Energy Efficiency, LLC ᵃ | NOX | PA-51-4942 (02/09/16)/PA-51-4944 (01/09/15)/PA-51-10459 (01/09/15).
ᵃ Grays Ferry Cogeneration, Veolia Schuylkill, and Veolia Energy Efficiency are treated as a single major source after the 1-hour RACT determination was issued. AMS submitted RACT documentation for each facility separately, although considering RACT applicability as a single major source of NOX.

As part of the source-specific RACT determinations, AMS also certified for certain emissions units at major sources subject to previously approved source-specific RACT determinations, that the existing RACT controls approved under the 1-hour ozone NAAQS continued to represent RACT for the 1997 8-hour ozone NAAQS. Furthermore, AMS addressed another 27 NOX and/or VOC sources in Philadelphia that were previously subject to source-specific RACT determinations for the 1-hour ozone NAAQS in the Pennsylvania SIP, by certifying that these sources are no longer subject to RACT for purposes of the 1997 8-hour ozone NAAQS because they are either no longer major sources of NOX and/or VOC or have shutdown. AMS requested to remove from the SIP source-specific RACT determinations approved under the 1-hour ozone NAAQS, as codified in 40 CFR 52.2020(d)(1), for 18 sources that have shutdown, as listed in Table 2.

Table 2—Shutdown Major Sources of NOX and/or VOC in Philadelphia Subject to Previous Source-Specific RACT Determinations
Source | SIP approved RACT permit (effective date) | EPA's approval date
Aldan Rubber Company | PA-51-1561 (07/21/00) | 10/30/01, 66 FR 54691.
Amoco Oil Company | PA-51-5011 (05/29/15) | 10/31/01, 66 FR 54936.
Arbill Industries, Inc | PA-51-3811 (07/27/99) | 10/30/01, 66 FR 54691.
Braceland Brothers, Inc | PA-51-3679 (07/14/00) | 10/30/01, 66 FR 54691.
Budd Company | PA-51-1564 (12/28/95) | 12/15/00, 65 FR 78418.
Eastman Chemical [formerly, McWhorter Technologies, Inc.] | PA-51-3542 (07/27/99) | 10/30/01, 66 FR 54691.
Graphic Arts, Incorporated | PA-51-2260 (07/14/00) | 10/30/01, 66 FR 54691.
Interstate Brands Corporation | PA-51-5811 (04/10/95) | 12/15/00, 65 FR 78418.
Kurz Hastings, Inc | PA-51-1585 (05/29/95) | 10/31/01, 66 FR 54936.
Lawrence McFadden, Inc | PA-51-2074 (06/11/97) | 10/31/01, 66 FR 54936.
O'Brien (Philadelphia) Cogeneration, Inc.—Northeast Water Pollution Control Plant | PA-51-1533 (07/21/00) | 10/30/01, 66 FR 54691.
O'Brien (Philadelphia) Cogeneration, Inc.—Southwest Water Pollution Control Plant | PA-51-1534 (07/21/00) | 10/30/01, 66 FR 54691.
Pearl Pressman Liberty | PA-51-7721 (07/24/00) | 10/30/01, 66 FR 54691.
Philadelphia Baking Company | PA-51-3048 (04/10/95) | 10/31/01, 66 FR 54936.
Rohm and Haas Company—Philadelphia | PA-51-1531 (07/27/99) | 10/31/01, 66 FR 54942.
Tasty Baking Co | PA-51-2054 (04/04/95) | 10/31/01, 66 FR 54942.
Transit America, Inc | PA-51-1563 (06/11/97) | 11/5/01, 66 FR 55880.
SBF Communications | PA-51-2197 (07/21/00) | 10/31/01, 66 FR 54942.

On April 26, 2016, PADEP submitted a letter, on behalf of AMS, withdrawing from the 2006 SIP revision the certification of the Pennsylvania rules related to the NOX SIP Call as 19978-hour ozone RACT, specifically 25 Pa Code sections 145.1-145.100, 25 Pa Code sections 145.111-145.113, and 25 Pa Code sections 145.141-144. In the letter, PADEP reaffirms that AMS is no longer relying on the SIP approved provisions related to the NOX SIP Call as 1997 8-hour ozone RACT for any sources in Philadelphia.

III. EPA's Rationale for Final Action

After review and evaluation, EPA determined that AMS provided adequate documentation in the September 29, 2006, June 22, 2010, June 27, 2014, February 18, 2015 and April 26, 2016 Philadelphia RACT SIP revisions to support that RACT has been met for all major sources of NOXand/or VOC in Philadelphia, including sources subject to source-specific RACT determinations, in accordance with the Phase 2 Ozone Implementation Rule and latest available information.⁷ EPA finds that the June 27, 2014, February 18, 2015, and April 26, 2016 SIP revisions satisfy the December 15, 2013 conditional approval, and thus adequately correct the deficiencies in the Philadelphia RACT demonstration EPA identified from reviewing the 2006 and 2010 SIP revisions. EPA also determined that the certified and recently adopted NOX and VOC regulations and the negative declarations included in the September 29, 2006 and June 22, 2010 SIP revisions, with exception of the withdrawn portions of the 2006 SIP revision, meet all other remaining CAA RACT requirements under the 19978-hour ozone NAAQS for Philadelphia. For further discussion on EPA's rationale for its final rulemaking action are explained in the NPR and in the technical support document (TSD), both available in the docket for this rulemaking action, and thus will not be restated here. No public comments were received on the NPR.

⁷ “Final Rule to Implement the 8-Hour Ozone National Ambient Air Quality Standard—Phase 2,” 70 FR 71612-71705 (November 29, 2005).

IV. Final Action

In this final rulemaking action, EPA determines that the Philadelphia 1997 8-hour ozone NAAQS RACT demonstration, included within the September 29, 2006, June 22, 2010, June 27, 2014, February 18, 2015, and April 26, 2016 SIP revisions, satisfies all applicable RACT requirements under the CAA for Philadelphia for the 1997 8-hour ozone NAAQS. EPA is taking various actions on the revisions to the Pennsylvania SIP addressing Philadelphia 1997 8-hour ozone RACT. EPA is approving as RACT under the 1997 8-hour ozone NAAQS for Philadelphia the certified and recently adopted NOX and VOC regulations and CTG negative declarations included in the September 29, 2006 and June 22, 2010 SIP revisions, with exception of the portions of the 2006 SIP submittal that were withdrawn by PADEP on April 26, 2016. Specifically, EPA is finalizing approval of the CTG RACT requirements in AMR V sections I, XV, and XVI, as amended or adopted in April 26, 2010 and effective upon adoption. EPA is approving as RACT under the 1997 8-hour ozone NAAQS for Philadelphia the source-specific RACT determinations provided in the June 27, 2014, February 18, 2015, and April 26, 2016 SIP revisions. EPA is also removing the conditional nature of the December 13, 2013 conditional approval and granting full approval to the Philadelphia 1997 8-hour ozone NAAQS RACT demonstration, based on EPA's determination that the June 27, 2014, February 18, 2015, and April 26, 2016 RACT SIP revisions satisfy the conditions established in its conditional approval.

V. Incorporation by Reference

In this rule, EPA is finalizing regulatory text that includes incorporation by reference. In accordance with requirements of 1 CFR 51.5, EPA is finalizing the incorporation by reference of source-specific RACT determinations under the 1997 8-hour ozone NAAQS for certain major sources of NOX and VOC emissions and Philadelphia CTG RACT regulations of AMR V sections I, XV, and XVI, as amended or adopted in April 26, 2010 and effective upon adoption. Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation. 62 FR 27968 (May 22, 1997). EPA has made, and will continue to make, these materials generally available through http://www.regulations.gov and/or at the EPA Region III Office (please contact the person identified in the FOR FURTHER INFORMATION CONTACT section of this preamble for more information).

VI. Statutory and Executive Order Reviews

A. General Requirements

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

In addition, section 804 exempts from section 801 the following types of rules: Rules of particular applicability; rules relating to agency management or personnel; and rules of agency organization, procedure, or practice that do not substantially affect the rights or obligations of non-agency parties. 5 U.S.C. 804(3). Because a portion of this rule is a rule of particular applicability, EPA is not required to submit a rule report regarding the portion of this action which is of particular applicability under section 801, but will submit the remainder of the rule.

C. Petitions for Judicial Review

Under section 307(b)(1) of the CAA, petitions for judicial review of this action must be filed in the United States Court of Appeals for the appropriate circuit by December 6, 2016. Filing a petition for reconsideration by the Administrator of this final rule does not affect the finality of this action for the purposes of judicial review nor does it extend the time within which a petition for judicial review may be filed, and shall not postpone the effectiveness of such rule or action. This action approving the Philadelphia RACT requirements under the 1997 8-hour ozone NAAQS may not be challenged later in proceedings to enforce its requirements. (See section 307(b)(2)).

List of Subjects in 40 CFR Part 52

Environmental protection, Air pollution control, Incorporation by reference, Nitrogen dioxide, Ozone, Reporting and recordkeeping requirements, Volatile organic compounds.

Dated: September 21, 2016.
Shawn M. Garvin,
Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020:

a. In the table in paragraph (c)(3), under “Regulation V—Control of Emissions of Organic Substances From Stationary Sources”:

i. Revise the first entry “Section I (Except for definitions related to paragraphs V.C. & V.D.)”.

ii. Remove the second entry “Section I”.

iii. Add entries “Section XV” and “Section XVI” in numerical order.

b. In the table in paragraph (d)(1):

i. Remove the following entries: “Aldan Rubber Company”; “Amoco Oil Company”; “Arbill Industries, Inc”; “Braceland Brothers, Inc”; “Budd Company”; “Exelon Generation Company—(PECO)—Richmond Generating Station”; “Exxon Company, USA”; “GATX Terminals Corporation”; “Graphic Arts, Incorporated”; “Interstate Brands Corporation”; “Jefferson Smurfit Corp./Container Corp. of America”; “Kurz Hastings, Inc”; “Lawrence McFadden, Inc”; “Maritank Philadelphia, Inc”; “McWhorter Technologies, Inc”; “Naval Surface Warfare Center, Caderock Division Ship Systems Engineering Station”; “O'Brien (Philadelphia) Cogeneration, Inc.—Northeast Water Pollution Control Plant”; “O'Brien (Philadelphia) Cogeneration, Inc.—Southwest Water Pollution Control Plant”; “Pearl Pressman Liberty”; “Philadelphia Baking Company”; “Philadelphia Gas Works—Richmond Plant”; “Rohm and Haas Company—Philadelphia Plant”; “SBF Communications”; “Sunoco Chemical, Frankford Plant”; “Sunoco Inc. (R&M)—Philadelphia”; “Tasty Baking Co”; “Temple University, Health Sciences Center”; “Transit America, Inc”; “TRIGEN—Edison Station”; “TRIGEN—Schuylkill Station”; and “U.S. Navy, Naval Surface Warfare Center—Carderock Division”.

ii. Add the following entries at the end of the table: “Exelon Generating Company—Richmond Generating Station”; “Grays Ferry Cogeneration Partnership—Schuylkill Station”; “Honeywell International—Frankford Plant”; “Kinder Morgan Liquids Terminals, LLC”; “Naval Surface Warfare Center—Carderock Division, Ship Systems Engineering Station (NSWCCD-SSES)”; “Paperworks Industries, Inc.”; “Philadelphia Energy Solutions—Refining and Marketing, LLC”; “Philadelphia Gas Works—Richmond Plant”; “Philadelphia Prison System”; “Plains Products Terminals, LLC”; “Temple University—Health Sciences Campus”; “Temple University—Main Campus”; “Veolia Energy Efficiency, LLC”; “Veolia Energy Philadelphia—Edison Station”; and “Veolia Energy Philadelphia—Schuylkill Station”.

c. In the table in paragraph (e)(1), add the entry “Philadelphia 1997 8-Hour Ozone RACT Demonstration” at the end of the table.

The revisions and additions read as follows:

§ 52.2020 Identification of plan.

* * * * *

(c) * * *

(3) * * *

Rule citation | Title/subject | State effective date | EPA approval date | Additional explanation/ § 52.2063 citation
* * * * * * *
Regulation V—Control of Emissions of Organic Substances From Stationary Sources
Section I (Except for definitions related to section V, paragraphs C and D) | Definitions | 4/26/2010 | 10/7/2016, [Insert Federal Register citation] | Amended to include definitions related to AMR V Sections XV and XVI. Exempted definitions were addressed in a previous approval. See 58 FR 33200 (June 16, 1993).
* * * * * * *
Section XV | Control of Volatile Organic Compounds (VOC) from Marine Vessel Coating Operations | 4/26/2010 | 10/7/2016, [Insert Federal Register citation] | Addresses RACT requirements for the ozone NAAQS under EPA's CTGs.
Section XVI | Synthetic Organic Manufacturing Industry (SOCMI) Air Oxidation, Distillation, and Reactor Processes | 4/26/2010 | 10/7/2016, [Insert Federal Register citation] | Addresses RACT requirements for the ozone NAAQS under EPA's CTGs.
* * * * * * *

* * * * *

(d) * * *

(1) * * *

Name of source | Permit No. | County | State effective date | EPA approval date | Additional explanation/ § 52.2063 citation
| * * * * * * *
Exelon Generation Company—Richmond Generating Station | PA-51-4903 | Philadelphia | 02/09/16 | 10/07/2016, [Insert Federal Register citation] | Supersedes previously approved RACT permit.
Grays Ferry Cogeneration Partnership—Schuylkill Station | PA-51-4944 | Philadelphia | 01/09/15 | 10/07/2016, [Insert Federal Register citation] | Source is aggregated with Veolia Energy Efficiency, LLC and Veolia Energy—Schuylkill Station.
Honeywell International—Frankford Plant | PA-51-1151 | Philadelphia | 02/09/16 | 10/07/2016, [Insert Federal Register citation] | Supersedes previously approved RACT permit. Source was formerly Sunoco Chemicals, Frankford Plant.
Kinder Morgan Liquid Terminals, LLC | PA-51-5003 | Philadelphia | 02/09/16 | 10/07/2016, [Insert Federal Register citation] | Supersedes previously approved RACT permit. Source was formerly GATX Terminal Corporation.
Naval Surface Warfare Center—Carderock Division, Ship Systems Engineering Station (NSWCCD-SSES) | PA-51-9724 | Philadelphia | 02/09/16 | 10/07/2016, [Insert Federal Register citation] | Supersedes previously approved RACT permits. Source was formerly U.S. Navy, Naval Surface Warfare Center, Carderock Division (NSWCCD).
Paperworks Industries, Inc | PA-51-1566 | Philadelphia | 01/09/15 | 10/07/2016, [Insert Federal Register citation] | Supersedes previously approved RACT permit. Source was formerly Jefferson Smurfit, Corp./Container Corp. of America.
Philadelphia Energy Solutions—Refining and Marketing, LLC | PA-51-01501; PA-51-01517 | Philadelphia | 02/09/16 | 10/07/2016, [Insert Federal Register citation] | Supersedes previously approved RACT permit. Source was formerly Sunoco Inc. (R&M)—Philadelphia.
Philadelphia Gas Works—Richmond Plant | PA-51-4922 | Philadelphia | 01/09/15 | 10/07/2016, [Insert Federal Register citation] | Supersedes previously approved RACT permit.
Philadelphia Prison System | PA-51-9519 | Philadelphia | 02/09/16 | 10/07/2016, [Insert Federal Register citation] |
Plains Products Terminals, LLC | PA-51-05013 | Philadelphia | 02/09/16 | 10/07/2016, [Insert Federal Register citation] | Supersedes previously approved RACT permit. Source was formerly Maritank Philadelphia, Inc. and Exxon Company, USA.
Temple University—Health Sciences Campus | PA-51-8906 | Philadelphia | 01/09/15 | 10/07/2016, [Insert Federal Register citation] | Supersedes previously approved RACT permit.
Temple University—Main Campus | PA-51-8905 | Philadelphia | 01/09/15 | 10/07/2016, [Insert Federal Register citation] |
Veolia Energy Efficiency, LLC | PA-51-10459 | Philadelphia | 01/09/15 | 10/07/2016, [Insert Federal Register citation] | Source is aggregated with Grays Ferry Cogeneration Partnership and Veolia Energy—Schuylkill Station.
Veolia Energy Philadelphia—Edison Station | PA-51-4902 | Philadelphia | 01/09/15 | 10/07/2016, [Insert Federal Register citation] | Supersedes previously approved RACT permit. Source was formerly TRIGEN—Edison Station.
Veolia Energy Philadelphia—Schuylkill Station | PA-51-4942 | Philadelphia | 02/09/16 | 10/07/2016, [Insert Federal Register citation] | Supersedes previously approved RACT permit. Source was formerly TRIGEN—Schuylkill Station. Source is aggregated with Grays Ferry Cogeneration Partnership and Veolia Energy Efficiency, LLC.

* * * * *

(e) * * *

(1) * * *

Name of non-regulatory SIP revision | Applicable geographic area | State submittal date | EPA approval date | Additional explanation
| * * * * * * *
Philadelphia 1997 8-Hour Ozone RACT Demonstration | Philadelphia County | 9/29/2006, 6/22/2010, 6/27/2014, 7/18/2015, 4/26/2016 | 10/7/2016, [Insert Federal Register citation] | Addressing all applicable RACT requirements for Philadelphia under the 1997 8-hour ozone standards. This rulemaking action converts the prior conditional approval of RACT demonstration to full approval.

* * * * *

§ 52.2023 [Amended]

3. In § 52.2023, remove paragraph (l).

[FR Doc. 2016-23840 Filed 10-6-16; 8:45 am]

BILLING CODE 6560-50-P